DEPARTMENT OF ENERGY

Federal Energy Regulatory Commission

[Docket No. EG00-141-000, et al.]

PSEG Power New York Inc., et al.; Electric Rate and Corporate Regulation Filings

May 19, 2000.

Take notice that the following filings have been made with the Commission:

1. PSEG Power New York Inc.

[Docket No. EG00-141-000]

Take notice that on May 1, 2000, PSEG Power New York Inc. (PSEG New York or Applicant) with its principal office at 80 Park Plaza Newark, New Jersey filed with the Federal Energy Regulatory Commission an application for determination of exempt wholesale generator status pursuant to Part 365 of the Commission's regulations.

PSEG New York is a corporation organized under the laws of the State of Delaware. PSEG New York will be engaged, directly or indirectly through an affiliate as defined in Section 2(a)(11)(B) of the Public Utility Holding Company Act of 1935, exclusively in owning, or both owning and operating a generating facility which consists of four fossil generating units representing a total of approximately 400 MW of generating capacity and incidental facilities located in the Township of Bethlehem, County of Albany, State of New York; selling electric energy at wholesale and engaging in project development activities with respect thereto.

Comment date: June 9, 2000, in accordance with Standard Paragraph E at the end of this notice. The Commission will limit its consideration of comments to those that concern the adequacy or accuracy of the application.

2. CMS Distributed Power L.L.C.

[Docket No. EG00-154-000]

Take notice that on May , 2000, CMS Distributed Power L.L.C., 330 Town Center Drive, Suite 1000, Dearborn, Michigan 48126, filed with the Federal Energy Regulatory Commission an application for determination of exempt wholesale generator status pursuant to Part 365 of the Commission's regulations.

CMS Distributed Power L.L.C. is a Michigan limited liability company and a wholly-owned indirect subsidiary of CMS Energy Corporation, a Michigan corporation. CMS Distributed Power L.L.C. is constructing a diesel powered generating facility in Dearborn, Michigan of approximately 38 megawatts and a diesel powered generating facility in Zilwaukee, Michigan of approximately 40 megawatts.

Comment date: June 9, 2000, in accordance with Standard Paragraph E at the end of this notice. The Commission will limit its consideration of comments to those that concern the adequacy or accuracy of the application.

3. Kansas Gas and Electric Company

[Docket No. ES00-37-001]

Take notice that on May 17, 2000, Kansas Gas and Electric Company submitted an amendment to its original application in this proceeding pursuant to Section 204 of the Federal Power Act. The application is amended so as to define the terms “short term indebtedness,” “securities” and “short-term securities” to mean securities with a maturity date no longer than five years from the date of issuance. The application is further amended so that the final maturity date of the medium-term securities to be issued will be no later than December 31, 2007.

Comment date: June 7, 2000, in accordance with Standard Paragraph E at the end of this notice.

4. Kansas Gas and Electric Company

[Docket No. ES00-38-001]

Take notice that on May 17, 2000, Kansas Gas and Electric Company submitted an amendment to its original application in this proceeding pursuant to Section 204 of the Federal Power Act. The application is amended so as to define the term “short term indebtedness” to mean securities with a maturity date no longer than five years from the date of issuance.

Kansas Gas and Electric Company requested a waiver from the Commission's competitive bidding and negotiated placement requirements of 18 CFR 34.2.

Comment date: June 7, 2000, in accordance with Standard Paragraph E at the end of this notice.

5. Western Resources, Inc.

[Docket No. ES00-39-001]

Take notice that on May 17, 2000, Western Resources, Inc. submitted an amendment to its original application in this proceeding pursuant to Section 204 of the Federal Power Act. The application is amended so as to define the terms “short term indebtedness,” “securities” and “short-term securities” to mean securities with a maturity date no longer than five years from the date of issuance. The application is further amended so that the final maturity date of the medium-term securities to be issued will be no later than December 31, 2007.

Comment date: June 7, 2000, in accordance with Standard Paragraph E at the end of this notice.

6. Rumford Cogeneration Company Limited Partnership

[Docket No. QF86-291-003]

Take notice that on May 16, 2000, Rumford Cogeneration Company Limited Partnership, c/o The Mead Corporation, Courthouse Plaza NE, Dayton, OH 45463, filed with the Federal Energy Regulatory Commission an application for recertification of a facility as a qualifying cogeneration facility pursuant to Section 292.207(b) of the Commission's regulations. No determination has been made that the submittal constitutes a complete filing. The facility is a 95 MW topping-cycle cogeneration facility. It is interconnected with Central Maine Power Company.

The Facility was originally certified as a QF in Docket No. QF86-291-000, Rumford Cogeneration Company, 34 FERC ¶ 62,205 (1986). Rumford also filed Notices of Self-recertification on September 29, 1987, in Docket No. QF86-291-001, and on October 22, 1997 in Docket No. QF86-291-002.

Recertification is sought to reflect the proposed sale of one of the limited partners' interest in the Facility.

Comment date: June 19, 2000, in accordance with Standard Paragraph E at the end of this notice.

7. California Independent System Operator Corporation

[Docket No. ER00-726-000]

Take notice that on May 16, 2000, the California Independent System Operator Corporation (ISO), tendered for filing a revision to the Scheduling Coordinator Agreement (SCA) between the ISO and Puget Sound Energy. The ISO states that the revision modifies the SCA to incorporate a name change for the bank in which Puget Sound Energy maintains its Fed-Wire Transfer account.

The ISO requests that the revision be made effective as of November 18, 1999.

The ISO states that this filing has been served on Puget Sound Energy and the California Public Utilities Commission.

Comment date: June 6, 2000, in accordance with Standard Paragraph E at the end of this notice.

8. Energy East Corporation and CMP Group, Inc.

[Docket No. ER00-2373-001]

Take notice that on May 16, 2000, Central Maine Power Company (CMP), tendered for filing pursuant to Rule 215 of the Rules of Practice and Procedure of the Federal Energy Regulatory Commission, 18 CFR 385.215, amended revised pages to CMP's Open Access Transmission Tariff in compliance with Energy East Corporation and CMP Group, Inc., 91 FERC ¶ 61, 001 (2000).

Comment date: June 6, 2000, in accordance with Standard Paragraph E at the end of this notice.

9. Southwestern Electric Power Company

[Docket No. ER00-2500-000]

Take notice that on May 16, 2000, Southwestern Electric Power Company (SWEPCO), tendered for filing an Interconnection Agreement between SWEPCO and Lone Star Steel Sales Company (Lone Star). The Interconnection Agreement supersedes an Interconnection Agreement between SWEPCO and Lone Star filed July 28, 1999. SWEPCO requests an effective date for the new Interconnection Agreement of May 17, 2000. Accordingly, SWEPCO requests waiver of the Commission's notice requirements.

SWEPCO states that a copy of the filing was served on Lone Star and the Public Utility Commission of Texas.

Comment date: June 6, 2000, in accordance with Standard Paragraph E at the end of this notice.

10. Western Resources, Inc.

[Docket No. ER00-2501-000]

Take notice that on June 6, 2000, Western Resources, Inc. (WR), tendered for filing the Third Amendment to the electric service Contract with the City of Ellinwood, Kansas (Ellinwood), the Third Amendment to the electric service Contract with the City of Larned, Kansas (Larned), the Third Amendment to the electric service Contract with the City of Osage City, Kansas (Osage City), the Third Amendment to the electric Service Contract with the City of Sterling, Kansas (Sterling), and the Second Amendment to the electric service Contract with City of Wamego, Kansas (Wamego).

WR requests an effective date of June 1, 2000 for these rate schedule changes.

Copies of this filing has been served upon the City of Ellinwood, City of Larned, City of Osage City, City of Sterling, City of Wamego, and the Kansas Corporation Commission.

Comment date: June 6, 2000, in accordance with Standard Paragraph E at the end of this notice.

11. Western Resources, Inc.

[Docket No. ER00-2502-000]

Take notice that on May 16, 2000, Western Resources, Inc., tendered for filing Service Schedule WTU-6/2000, which will supercede Service Schedule WTU-3/94. Service Schedule WTU-6/2000 is proposed to be effective as of June 1, 2000. The revisions to Service Schedule WTU-3/94 promotes competition by allowing customers taking service under this schedule to receive credit for alternative competitive resources.

A copy of this filing was served upon the Kansas Corporation Commission and the wholesale customers who take service under the aforementioned Service Schedule.

Comment date: June 6, 2000, in accordance with Standard Paragraph E at the end of this notice.

12. Allegheny Energy Service Corporation, on behalf of Allegheny Energy Supply Company, LLC

[Docket No. ER00-2504-000]

Take notice that on May 16, 2000, Allegheny Energy Service Corporation on behalf of Allegheny Energy Supply Company, LLC (Allegheny Energy Supply), tendered for filing Supplement No. 42 to add one (1) new Customer to the Market Rate Tariff under which Allegheny Energy Supply Company offers generation services; and filed Amendment No. 1 to Supplement No. 42 to incorporate a Netting Agreement with Tractebel Energy Marketing, Inc. into the tariff provisions.

Allegheny Energy Supply requests a waiver of notice requirements to make service available as of April 19, 2000 or on a date as determined by the Commission to Tractebel Energy Marketing, Inc., and make the Netting Agreement effective as of May 3, 2000 or on a date as determined by the Commission.

Copies of the filing have been provided to the Public Utilities Commission of Ohio, the Pennsylvania Public Utility Commission, the Maryland Public Service Commission, the Virginia State Corporation Commission, the West Virginia Public Service Commission, and all parties of record.

Comment date: June 6, 2000, in accordance with Standard Paragraph E at the end of this notice.

13. Allegheny Energy Service Corporation, on behalf of Monongahela Power Company, The Potomac Edison Company, and West Penn Power Company, (Allegheny Power)

[Docket No. ER00-2505-000]

Take notice that on May 16, 2000, Allegheny Energy Service Corporation on behalf of Monongahela Power Company, The Potomac Edison Company and West Penn Power Company (Allegheny Power), tendered for filing Supplement No. 79 to add Public Service Company of Colorado to Allegheny Power's Open Access Transmission Service Tariff which has been accepted for filing by the Federal Energy Regulatory Commission in Docket No. ER96-58-000.

The proposed effective date under the Service Agreements is May 15, 2000 or a date ordered by the Commission.

Copies of the filing have been provided to the Public Utilities Commission of Ohio, the Pennsylvania Public Utility Commission, the Maryland Public Service Commission, the Virginia State Corporation Commission, and the West Virginia Public Service Commission.

Comment date: June 6, 2000, in accordance with Standard Paragraph E at the end of this notice.

14. PPL Electric Utilities Corporation

[Docket No. ER00-2506-000]

Take notice that on May 16, 2000, PPL Electric Utilities Corporation tendered for filing notice of cancellation of Service Agreement No. 8 under its FERC Electric Tariff Volume No. 1. PPL Utilities requested an effective date of this cancellation of July 17, 2000.

Notice of the proposed cancellation has been served upon Cargill-Alliant, LLC.

Comment date: June 6, 2000, in accordance with Standard Paragraph E at the end of this notice.

15. Central Vermont Public Service Corporation

[Docket No. ER00-2507-000]

Take notice that on May 16, 2000, Central Vermont Public Service Corporation, tendered for filing a modification to its billing procedures under Section 7.1 of its open access Transmission Service Tariff No. 7.

Copies of the filing were served upon Central Vermont's jurisdictional customers, Vermont Public Service Board, New Hampshire Public Utilities Commission, Connecticut Public Utilities Control Department and Massachusetts Public Utilities Commission.

Comment date: June 6, 2000, in accordance with Standard Paragraph E at the end of this notice.

16. Duke Energy Corporation

[Docket No. ER00-2509-000]

Take notice that on May 16, 2000, Duke Energy Corporation (Duke), tendered for filing a Service Agreement with New Energy, Inc. for Non-Transmission Service under Duke's Open Access Transmission Tariff.

Duke requests that the proposed Service Agreement be permitted to become effective on May 2, 2000.

Duke states that this filing is in accordance with Part 35 of the Commission's Regulations and a copy has been served on the North Carolina Utilities Commission.

Comment date: June 6, 2000, in accordance with Standard Paragraph E at the end of this notice.

17. Duke Energy Corporation

[Docket No. ER00-2510-000]

Take notice that on May 16, 2000, Duke Energy Corporation (Duke), tendered for filing a Service Agreement with New Energy, Inc., for Transmission Service under Duke's Open Access Transmission Tariff.

Duke requests that the proposed Service Agreement be permitted to become effective on May 2, 2000.

Duke states that this filing is in accordance with Part 35 of the Commission's Regulations and a copy has been served on the North Carolina Utilities Commission.

Comment date: June 6, 2000, in accordance with Standard Paragraph E at the end of this notice.

18. Duke Energy Corporation

[Docket No. ER00-2511-000]

Take notice that on May 16, 2000, Duke Energy Corporation (Duke), tendered for filing a Service Agreement with Amerada Hess Corporation for Non-Transmission Service under Duke's Open Access Transmission Tariff.

Duke requests that the proposed Service Agreement be permitted to become effective on May 2, 2000.

Duke states that this filing is in accordance with Part 35 of the Commission's Regulations and a copy has been served on the North Carolina Utilities Commission.

Comment date: June 6, 2000, in accordance with Standard Paragraph E at the end of this notice.

19. Duke Energy Corporation

[Docket No. ER00-2512-000]

Take notice that on May 16, 2000, Duke Energy Corporation (Duke), tendered for filing a Service Agreement with Amerada Hess Corporation, for Transmission Service under Duke's Open Access Transmission Tariff.

Duke requests that the proposed Service Agreement be permitted to become effective on May 2, 2000.

Duke states that this filing is in accordance with Part 35 of the Commission's Regulations and a copy has been served on the North Carolina Utilities Commission.

Comment date: June 6, 2000, in accordance with Standard Paragraph E at the end of this notice.

20. Northern Indiana Public Service Company

[Docket No. ER00-2513-000]

Take notice that on May 16, 2000, Northern Indiana Public Service Company tendered for filing an executed Standard Transmission Service Agreement for Non-Firm Point-to-Point Transmission Service between Northern Indiana Public Service Company and Amerada Hess Corporation (Amerada).

Under the Transmission Service Agreement, Northern Indiana Public Service Company will provide Point-to-Point Transmission Service to Amerada pursuant to the Transmission Service Tariff filed by Northern Indiana Public Service Company in Docket No. OA96-47-000 and allowed to become effective by the Commission.

Northern Indiana Public Service Company has requested that the Service Agreement be allowed to become effective as of May 17, 2000.

Copies of this filing have been sent to Amerada, the Indiana Utility Regulatory Commission, and the Indiana Office of Utility Consumer Counselor.

Comment date: June 6, 2000, in accordance with Standard Paragraph E at the end of this notice.

21. TransAlta Centralia Generation LLC

[Docket No. ER00-2514-000]

Take notice that on May 16, 2000, TransAlta Centralia Generation LLC (TACG) tendered for filing, pursuant to Section 205 of the Federal Power Act and Part 35 of the Commission's Rules and Regulations, a Power Purchase and Sale Agreement between TACG and TransAlta Energy Marketing (US) Inc.

Comment date: June 6, 2000, in accordance with Standard Paragraph E at the end of this notice.

22. MidAmerican Energy Company

[Docket No. ER00-2515-000]

Take notice that on May 16, 2000, MidAmerican Energy Company (MidAmerican), tendered for filing with the Commission a Notice of Cancellation of its Service Agreement dated July 21, 1958, between Iowa Power and Light Company (a predecessor company of MidAmerican) and City of Carlisle, Iowa, pursuant to Section 35.15 of the Commission's Regulations. MidAmerican requests that the following rate schedule be canceled effective as of 11:59 p.m. on February 23, 1998. This Agreement has been designated as MidAmerican Rate Schedule No. 32.

MidAmerican requests a waiver of Section 35.15 to the extent that this Notice of Cancellation has not been filed within the time required by such section. MidAmerican inadvertently failed to submit the Notice of Cancellation upon expiration of the agreement. The expired agreement was supplanted by a new agreement, the “Wholesale Full Requirements Power Sales Agreement” and has been designated as MidAmerican Rate Schedule Electric Tariff No. 5, Service Agreement No. 24.

MidAmerican has mailed a copy of this filing to City of Carlisle, Iowa, the Iowa Utilities Board, the Illinois Commerce Commission and the South Dakota Public Utilities Commission.

Comment date: June 6, 2000, in accordance with Standard Paragraph E at the end of this notice.

23. Central Maine Power Company

[Docket No. ER00-2017-000]

Take notice that on May 16, 2000, Central Maine Power Company (CMP), tendered for filing an amendment to its Motion To Defer Action (Motion), filed on May 12, 2000, in the above-referenced docket. By the Motion and this amendment, CMP is seeking for the Commission to defer action for forty-five (45) days on an unexecuted service agreement for Firm Local Point-to-Point Transmission and interconnection agreement by and between CMP and Moosehead Energy Inc., submitted in Docket No. ER00-2017-000. CMP states this amendment will allow CMP and Moosehead Energy, Inc., to negotiate executed agreements.

Comment date: June 6, 2000, in accordance with Standard Paragraph E at the end of this notice.

24. Citizens Power Sales LLC, et al

[Docket Nos. ER94-1685-029, ER95-393-027, ER95-892-053, ER95-856-002, ER96-2652-047, ER99-893-005, ER99-892-006, ER99-891-006, ER99-890-006, ER99-4229-003, ER99-4330-001, ER99-4228-003, and ER99-4331-001]

Take notice that on May 12, 2000, Citizens Power Sales LLC, Hartford Power Sales, L.L.C., CL Power Sales One, L.L.C., CL Power Sales Two, L.L.C., CP Power Sales Five, L.L.C., CL Power Sales Six, L.L.C., CL Power Sales Seven, L.L.C., CL Power Sales Eight, L.L.C., CL Power Sales Nine, L.L.C., CL Power Sales Ten, L.L.C., CP Power Sales Twelve, L.L.C., CP Power Sales Thirteen, L.L.C., CP Power Sales Fourteen, L.L.C., CP Power Sales Fifteen, L.L.C., CP Power Sales Seventeen, L.L.C., CP Power Sales Eighteen, L.L.C., CP Power Sales Nineteen, L.L.C., and CP Power Sales Twenty, L.L.C., tendered for filing revised codes of conduct.

Comment date: June 2, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

Linwood A. Watson, Jr.,
Acting Secretary.

[FR Doc. 00-13218 Filed 5-25-00; 8:45 am]

BILLING CODE 6717-01-P